DEPARTMENT OF HOMELAND SECURITY

Coast Guard

[Docket No. USCG-2015-0231]

Distant Water Tuna Fleet Manning Exemption

AGENCY: Coast Guard, DHS.

ACTION: Notice of availability.

SUMMARY: The Coast Guard announces the availability of an updated policy letter entitled “Distant Water Tuna Fleet (DWTF) Vessels Manning Exemption Guidance.” The letter provides revised guidance on procedures for requesting and issuing a Manning Exemption Letter as a result of recent statutory changes that affected the previous 2013 guidance.

DATES: The revised policy guidance is effective May 1, 2015.

FOR FURTHER INFORMATION CONTACT: For information about this document call or email Mr. Jack Kemerer, Coast Guard; telephone 202-372-1249, email Jack.A.Kemerer@uscg.mil. For information about viewing or submitting material to the docket, call Cheryl Collins, Program Manager, Docket Operations, telephone 202-366-9826, toll free 1-800-647-5527.

SUPPLEMENTARY INFORMATION:

Discussion

The revised policy letter is available at www.fishsafe.info. It updates guidance on the issuance of Distant Water Tuna Fleet Manning Exemption Letters. Similar guidance was issued in 2013, and is being brought up to date in light of recent statutory changes.

The DWTF consists of U.S. commercial purse seine fishing vessels, under masters who are U.S. citizens, that operate in the tuna fisheries of the Western Pacific Ocean far from U.S. territories other than Guam and American Samoa. Because of the difficulty of hiring U.S. merchant mariners (other than vessel masters) to serve in this fleet, the law authorizes foreign citizens to hold required navigation and engineering positions, if they are properly licensed by their countries, and subject to certain restrictions and limitations, and if qualified U.S. citizens are not readily available. Vessels that comply with these conditions may apply for and receive a Coast Guard Manning Exemption Letter attesting to compliance. The letter may expedite a vessel boarding or examination process.

This notice is issued under authority of 5 U.S.C. 552(a).

Dated: April 2, 2015.
J.C. Burton,
Captain, U.S. Coast Guard, Director of Prevention and Compliance.

[FR Doc. 2015-07939 Filed 4-6-15; 8:45 am]

BILLING CODE CODE 9110-04-P